DEPARTMENT OF TRANSPORTATION

Federal Aviation Administration

Release of Airport Property: Fort Myers International Airport, Fort Myers, FL

AGENCY: Federal Aviation Administration (FAA), DOT.

ACTION: Request for Public Comment.

SUMMARY: The FAA hereby provides notice of intent to release certain airport properties 0.55 acres at the Fort Myers International Airport, Fort Myers, FL from the conditions, reservations, and restrictions as contained in all grant agreements between the FAA and the Lee County Port Authority. The release of property will allow the Lee County Port Authority, owner of Fort Myers International Airport, to dispose of the property for other than aeronautical purposes. The property is located north of Daniels Parkway and Chana Court, near the intersection of Chamberlin Parkway, in Fort Myers, Florida. The parcels are currently designated as non-aeronautical use. The property will be released of its federal obligations to transfer ownership to Lee County. The release of the airport properties will facilitate the construction of a new direct interchange access to the airport from Interstate 75. Lee County will also transfer ownership of 1.93 acres of property north of Daniels Parkway and Chana Court to be used for drainage for the airport access road. The airport parcels to be released have an appraised Fair Market Value of $41,622. The value of the parcel to be received is $5,000, and the value of the proposed airport access improvement is estimated to be $500,620.

Documents reflecting the Sponsor's request are available, by appointment only, for inspection at the Fort Myers International Airport and the FAA Airports District Office.

DATES: Comments are due on or before February 22, 2012.

ADDRESSES: Documents are available for review at the Fort Myers International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Bart Vernace,
Acting Manager, Orlando Airports District Office Southern Region.

R

[FR Doc. 2012-1064 Filed 1-20-12; 8:45 am]

BILLING CODE 4910-13-P